ENVIRONMENTAL PROTECTION AGENCY

[EPA—New England Region I—EPA-R01-OW-2008-20215; FRL-8566-8]

Massachusetts Marine Sanitation Device Standard—Receipt of Petition

AGENCY: Environmental Protection Agency (EPA).

ACTION: Notice—receipt of petition.

SUMMARY: Notice is hereby given that a petition has been received from the state of Massachusetts requesting a determination by the Regional Administrator, U.S. Environmental Protection Agency, that adequate facilities for the safe and sanitary removal and treatment of sewage from all vessels are reasonably available for the waters of Salem Sound in the towns of Manchester-by-the-Sea, Beverly, Danvers, Salem, and Marblehead.

DATES: May 16, 2008.

ADDRESSES: Submit your comments, identified by Docket ID No. EPA-R01-OW-2008-0215 by one of the following methods:

http://www.regulations.gov: Follow the on-line instructions for submitting comments.

• E-mail: rodney.ann@epa.gov.

• Fax: (617) 918-0538.

Mail and hand delivery: U.S. Environmental Protection Agency—New England Region, One Congress Street, Suite 1100, COP, Boston, MA 02114-2023. Deliveries are only accepted during the Regional Office's normal hours of operation (8 a.m.-5 p.m., Monday through Friday, excluding legal holidays), and special arrangements should be made for deliveries of boxed information.

Instructions: Direct your comments to Docket ID No. EPA-R01-OW-2008-0212. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the U.S. Environmental Protection Agency—New England Region, One Congress Street, Suite 1100, COP, Boston, MA 02114-2023. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, One Congress Street, Suite 1100, COP, Boston, MA 02114-2023. Telephone: (617) 918-1538, Fax number: (617) 918-0538; e-mail address: rodney.ann@epa.gov.

SUPPLEMENTARY INFORMATION: Notice is hereby given that a petition has been received from the state of Massachusetts requesting a determination by the Regional Administrator, U.S. Environmental Protection Agency, pursuant to Section 312(f)(3) of Public Law 92-500 as amended by Public Law 95-217 and Public Law 100-4, that adequate facilities for the safe and sanitary removal and treatment of sewage from all vessels are reasonably available for the area within the following boundaries:

Waterbody/General area | Latitude | Longitude
Southern Landward boundary—Marblehead town line | 42°28′43″ N | 70°52′45″ W
Southern Seaward boundary | 42°26′33″ N | 70°49′05″ W
Eastern boundary—Halfway Rock | 42°30′10″ N | 70°46′30″ W
Northern Seaward boundary—3 miles off Eastern Point | 42°33′03″ N | 70°36′06″ W
Northern Landward boundary—Manchester town line | 42°34′20″ N | 70°42′52″ W

The proposed NDA boundary includes the municipal waters of Manchester-by-the-Sea, Beverly, Danvers, Salem, and Marblehead and extends to the boundary between state and federal waters. This area includes the islands of Bakers Island, Crowninshield Island, Cat Island, Children's Island, Great and Little Misery Islands, and House Island.

There are approximately 19 marinas, 14 yacht clubs and five public landings/piers in the proposed area. Massachusetts has certified that there are eight pumpout facilities within the proposed area available to the boating public and two additional facilities pending. In addition, there will be a pumpout facility on the Beverly Pier once the area has been redeveloped. The majority of facilities are connected directly into the local wastewater treatment system. A list of the facilities, phone numbers, locations, and hours of operation is provided at the end of this petition.

Massachusetts has provided documentation indicating that the total vessel population is estimated to be 7,000 in the proposed area. It is estimated that 3,590 of the total vessel population may have a Marine Sanitation Device (MSD) of some type.

The Trustees of Reservations manages three conservation properties within the area, Crowninshield Island, Misery Islands, and the Coolidge Reservation. The Salem Maritime National Historical Site is located within the area. There are forty-two beaches located within the proposed No Discharge Area. The proposed area has a variety of rich natural habitats, and supports a wide diversity of species. Both recreational and commercial fishermen use the area for fisheries for mackerel, striped bass, blue fish and flounder.

Pumpout Facilities Within Proposed No Discharge Area
Name | Location | Contact Info. | Hours | Mean low water depth
Manchester Marine | Manchester | (978) 526-7911 VHF 72 | Mon-Thurs—7 a.m.-6 p.m. Fri-Sun (+holidays) 7 a.m.-8 p.m | 6 ft
Manchester Marine | Manchester | (978) 526-7911 VHF 72 | Mon-Thurs—7 a.m.-6 p.m. Fri-Sun (+holidays) 7 a.m.-8 p.m | N/A Boat service
Ferry Way Public Landing | Beverly | (978) 921-6059 VHF 9 | Fri-Sun (+holidays) 8 a.m.-4 p.m | 10 ft
Danversport Yacht Club | Danvers (2 facilities) | (978) 774-8644 | Mon-Thurs—8 a.m.-5 p.m. Fri-Sat—8 a.m.-6 p.m. Sun—8 a.m.-4 p.m | 6 ft
Salem Waterfront (Winter Island) | Salem | (978) 741-0098 VHF 9 | Sat-Sun (+holidays) 9 a.m.-5 p.m | N/A Boat service
Congress St. Landing | Salem | (978) 741-0098 VHF 9 | 24 hours/7 days a week | 3 ft
Ferry Lane—Harbormaster's office | Marblehead | (781) 631-2386 VHF 16 | Mon-Fri—9 a.m.-3 p.m. | N/A Boat service
Cliff Street Boatyard | Marblehead | (781) 631-2386 VHF 16 | 24 hours/7 days a week | 9 ft
Pending
** Danvers | Danvers | TBD | TBD | N/A Boat service
** Salem | Salem | TBD | TBD | N/A Boat service
** Beverly Pier | Beverly | TBD | TBD | TBD
** = Pending facilities.

Dated: May 9, 2008.
Robert W. Varney,
Regional Administrator, New England Region.

[FR Doc. E8-10998 Filed 5-15-08; 8:45 am]

BILLING CODE 6560-50-P